DEPARTMENT OF TRANSPORTATION

Federal Highway Administration

Environmental Impact Statement: Erie County, NY

AGENCY: Federal Highway Administration (FHWA), DOT.

ACTION: Notice of intent.

SUMMARY: The FHWA is issuing this notice to advise the public that an environmental impact statement will be prepared for a proposed bridge replacement project (PIN 5758.17) located in Erie County, New York.

FOR FURTHER INFORMATION CONTACT: Jeffrey W. Kolb, P.E., Division Administrator, Federal Highway Administration, New York Division, Leo W. O'Brien Federal Building, 7th Floor Room 719, Clinton Avenue and North Pearl Street, Albany, New York 12207, Telephone: (518) 431-4127; or Alan E. Taylor, P.E., Regional Director, NYSDOT Region 5; 100 Seneca Street, Buffalo NY 14203, Telephone: (716) 847-3238; or Steven P. Ranalli, P.E., Senior Project Manager, Erie Canal Harbor Development Corporation (ECHDC), 95 Perry Street, 5th Floor, Buffalo, NY 14203, Telephone: (716) 846-8241.

SUPPLEMENTARY INFORMATION: The FHWA, in cooperation with the New York State Department of Transportation (NYSDOT) and the Erie Canal Harbor Development Corporation (ECHDC), a subsidiary of the New York State Urban Development Corporation d/b/a/Empire State Development Corporation (ESDC), will prepare an environmental impact statement (EIS) in accordance with the Safe, Accountable, Flexible, Efficient, Transportation Equity Act: A Legacy for Users (SAFETEA-LU) Section 6002 for a National Environmental Policy Act (NEPA) “Class I” action on a proposal to replace the former South Michigan Avenue Bridge in the City of Buffalo, Erie County.

A transportation facility is needed that provides a direct link from the inner harbor area to the outer harbor area and providing local access between the two areas while maintaining adequate waterway access for commercial and recreational craft. The facility would be located in one of several locations within a 1.5 mile corridor extending from a northern terminus at the mouth of the Buffalo River (in the vicinity of the Erie Basin Marina) to a southern terminus near the southern navigation limit of the City Ship Canal (west of the existing Ohio Street Bridge) in the inner and outer harbor areas of the City of Buffalo (containing various local streets that end short of the Buffalo River or the City Ship Canal). The range of alternatives will include no action and give consideration to locations derived from previous studies that investigated reconnecting the harbor. Alternatives under consideration include: (1) Taking no action; (2) replacing the South Michigan Avenue Bridge on existing alignment; and (3) constructing a new bridge on new alignment across the Buffalo River and/or City Ship Canal. Additional input from Participating and Cooperating Agencies, and from the public, will be necessary before a final decision will be made regarding the full range of alternatives to be studied.

Letters describing the proposed action and soliciting comments will be sent to appropriate Federal, State, and local agencies, and to private organizations, citizens and other project stakeholders. A series of public information meetings, including a formal NEPA scoping meeting, will be held in the City of Buffalo between May 2009 and August 2011. In addition, a formal NEPA scoping meeting and a public hearing will be held. Public notice will be given of the time and place of the meetings and hearings. The draft EIS will be available for review and comment by the public and agencies.

To ensure that the full range of issues related to this proposed action are addressed and all significant issues identified, comments and suggestions are invited from all interested parties. Comments or questions concerning this proposed action and the EIS should be directed to the FHWA, NYSDOT or ECHDC at the addresses provided above.

(Catalog of Federal Domestic Assistance Program Number 20.205, Highway Research, Planning and Construction. The regulations implementing Executive Order 12372 regarding intergovernmental consultation on Federal programs and activities apply to this program.)

Authority: 23 U.S.C. 315; U.S.C. 771.123.

Issued on April 7, 2009.
Jeffrey W. Kolb,
Division Administrator, New York Division, Federal Highway Administration, Albany, New York.

[FR Doc. E9-8392 Filed 4-10-09; 8:45 am]

BILLING CODE 4910-22-P